DEPARTMENT OF ENERGY

Federal Energy Regulatory Commission

[Project No. 10615-058]

Tower Kleber Limited Partnership; Notice of Tribal Consultation Meeting and Environmental Site Review

On December 6, 2023, Commission staff will hold a Tribal consultation meeting and environmental site review on the proposed relicensing of the Tower and Kleber Hydroelectric Project No. 10615 (project).

Tribal Consultation Meeting

On December 6, 2023, at 1:00 p.m. EST, Commission staff will hold a meeting to consult with Tribes on the project's relicensing and cultural resources at the project. Discussion topics for the consultation meeting are noted in Appendix A.

The consultation meeting is open to all. Participation in the discussion, however, will be limited to the Tribes and Commission staff. The relicense applicant, Tower Kleber Limited Partnership, will be given an opportunity to describe its relicensing proposal for the project. Others attending may do so as observers only.

There will be no transcript of the meeting, but a summary of the meeting will be prepared for the project record. In accordance with the requirements of section 304 of the National Historic Preservation Act and implementing regulations,¹ if the Tribes decide to disclose information about a specific location that could create a risk or harm to an archeological site or Native American cultural resource, attendees will be excused for that portion of the meeting and can return to the meeting after such information is disclosed. Commission staff's meeting summary will include an unredacted privileged version and a redacted public version that excludes information about the specific location of the archeological site or Native American cultural resource.

¹ See 54 U.S.C. 307103; 36 CFR 800.11(c).

The consultation meeting will be held in person at the Onaway City Hall located at 20774 State Street, Onaway, Michigan 49765. A teleconference option will be available for stakeholders that cannot attend the meeting in person. If you are interested in attending via teleconference, please contact Arash Barsari at (202) 502-6207 or Arash.JalaliBarsari@ferc.gov by December 4, 2023, to receive specific instructions on how to participate.

Environmental Site Review

On December 6, 2023, at 9:00 a.m. EST, Tower Kleber Limited Partnership will conduct an environmental site review of the project. All interested persons are invited to participate.

The site review will include the facilities associated with the two hydropower developments of the project (i.e., the Tower Development and Kleber Development). The site review will commence at the parking area adjacent to the Tower Development powerhouse. Please note that all participants are responsible for their own transportation to/from the project and during the site review tour. If you are interested in attending, or have questions regarding the site review, please contact Jim Tucker of Tower Kleber Limited Partnership via email at tuckerjkgam@aol.com, or telephone at (989) 370-1704 by Friday, December 1, 2023.

Participants will meet at the parking area adjacent to the Tower Development powerhouse at 9660 Co-Op Road, Onaway, Michigan 49765. Participants should arrive early for coordination purposes and to begin the tour promptly at 9:00 a.m. EST. Additionally, participants must wear sturdy, closed-toe shoes or boots.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: November 15, 2023.
Debbie-Anne A. Reese,
Deputy Secretary.

Appendix A—Tribal Consultation Meeting Discussion Topics

1. Introduction

2. Relicensing process

3. Project description

4. Scope of issues in NEPA document

5. Treaty rights

6. Culturally significant resources and habitats

7. Conclusion

[FR Doc. 2023-25740 Filed 11-20-23; 8:45 am]

BILLING CODE 6717-01-P